DEPARTMENT OF TRANSPORTATION

Federal Aviation Administration

Notice of Passenger Facility Charge (PFC) Approvals and Disapprovals

AGENCY: Federal Aviation Administration (FAA), DOT.

ACTION: Monthly Notice of PFC Approvals and Disapprovals. In December 2003, there were seven applications approved. This notice also includes information on one application, approved in November 2003, inadvertently left off the November 2003 notice. Additionally, nine approved amendments to previously approved application are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: MBS International Airport Commission, Saginaw, Michigan.

Application Number: 03-05-C-00-MBS.

Application Type: Impose and use a PFC.

PFC Level: $3.00

Total PFC Revenue Approved in This Decision: $1,378,794.

Earliest Charge Effective Date: March 1, 2007.

Estimated Charge Expiration Date: April 1, 2010.

Class of Air Carriers not Required To Collect PFC'S: Part 135 air Taxi/commercial operators filing FAA Form 1800-31.

Determination: Approved. Based on information contained in the public agency's application, the FAA has determined that the approved class accounts for less than 1 percent of the total annual enplanements at MBS International Airport.

Brief Description of Projects Approved for Collection and Use:

Furnish and install regional jet bridge.

Reimbursement of PFC charges for application preparation.

Reimbursement of charges for audits of PFC program.

Land acquisition—Law property.

Security fingerprint machine procurement.

Aircraft rescue and firefighting vehicle procurement.

Snow removal equipment procurement.

Runway friction braking vehicle procurement.

Decision Date: November 24, 2003.

For Further Information Contact: Jason Watt, Detroit Airports District Office, (734) 229-2906.

Public Agency: Hattiesburg-Laurel Regional Airport Authority, Moselle, Mississippi.

Application Number: 03-04-C-00-PIB.

Application Type: Impose and use a PFC.

PFC Level: $4.50.

Total PFC Revenue Approved in This Decision: $79,487.

Earliest Charge Effective Date: April 1, 2004.

Estimated Charge Expiration Date: April 1, 2006.

Class of Air Carriers not Required to Collect PFC's: None.

Brief Description of Projects Approved for Collection and Use:

Acquire air passenger boarding stairs.

Expand parking lot.

Expand commercial apron.

Rehabilitate airport beacon and apron lights.

Decision Date: December 3, 2003.

For Further Information Contact: Patrick D. Vaught, Jackson Airports District Office, (601) 664-9885.

Public Agency: Western Reserve Port Authority, Vienna, Ohio.

Application Number: 03-04-C-00-YNG.

Application Type: Impose and use a PFC.

PFC Level: $3.00

Total PFC Revenue Approved in This Decision: $36,888.

Charge Effective Date: Not applicable. This decision authorizes the use of excess revenue previously collected and does not authorize new collections of PFC revenue.

Estimated Charge Expiration Date: Not applicable.

Class of Air Carriers not Required to Collect PFC's: None.

Brief Description of Projects Approved for Collection and Use:

PFC program administration.

Runway safety area modifications and terminal sanitary sewer.

Decision Date: December 3, 2003.

For Further Information Contact: Jason K. Watt, Detroit Airports District Office (734) 229-2906.

Public Agency: City of Pocatello, Idaho.

Application Number: 03-04-C-00-PIH.

Application Type: Impose and use a PFC.

PFC Level: $4.50

Total PFC Revenue Approved in This Decision: $456,500.

Earliest Charge Effective Date: January 1, 2005.

Estimated Charge Expiration Date: March 1, 2008.

Class of Air Carriers not Required to Collect PFC's:

Non-scheduled air taxi/commerical operators, utilizing aircraft having a seating capacity of less than 20 passengers.

Determination: Approved. Based on information contained in the public agency's application, the FAA has determined that the approved class accounts for less than 1 percent of the total annual enplanements at Pocatello Regional Airport.

Brief Description of Projects Approved for Collection and Use:

Renovation of taxiway A and connectors, parallel taxiway for runway 3/21, lighting system.

Pavement condition index survey update and wildlife hazard study.

Taxiway F, D, and B widening and hold apron for runway end 3.

Snow removal equipment procurement—plow.

Security system upgrade—identification card access.

Wildlife abatement fencing.

Construct new aircraft rescue and firefighting building.

Brief Description of Project Approved for Collection:

Construction of midfield taxiway E.

Brief Description of Withdrawn Project:

Purchase aircraft rescue and firefighting vehicle.

Determination: This project was withdrawn by the public agency on September 9, 2003.

Decision Date: December 19, 2003.

For Further Information Contact: Suzanne Lee-Pang, Seattle Airports District Office, (425) 227-2654.

Public Agency: Board of County Commissioners of Washington County, Hagerstown, Maryland.

Application Number: 04-03-C-00-HGR.

Application Type: Impose and use a PFC.

PFC Level: $4.50.

Total PFC Revenue Approved in This Decision: $415,188.

Earliest Charge Effective Date: January 1, 2004.

Estimated Charge Expiration Date: December 1, 2007.

Class of Air Carriers not Required To Collect PFC's: Non-scheduled/on-determine air carriers filing FAA Form 1800-31.

Determination: Approved. Based on information contained in the public agency's application, the FAA has determined that the approved class accounts for less than 1 percent of the total annual enplanement at Hagerstown Regional Airport—Richard A. Hensen Field.

Brief Description of Project Approved for Collection and Use:

Terminal building modifications.

Decision Date: December 17, 2003.

For Further Information Contact: Arthur Winder, Washington Airports District Office, (703) 661-1363.

Public Agency: Blair County Airport Authority, Martinsburg, Pennsylvania.

Application Number: 03-05-C-00-AOO.

Application Type: Impose and use a PFC.

PFC Level: $3.00.

Total PFC Revenue Approved in This Decision: $232,460.

Earliest Charge Effective Date: March 1, 2004.

Estimated Charge Expiration Date: November 1, 2013.

Classes of Air Carriers not Required To Collect PFC's:

(1) Part 135 charter operations; (2) unscheduled Part 121 charter operations.

Determination: Approved. Based on information contained in the public agency's application, the FAA has determined each the approved class accounts for less than 1 percent of the total annual enplanements at Altoona-Blair County Airport.

Brief Description of Projects Approved for Collection and Use:

Develop PFC program and PFC application.

Construct aircraft rescue and firefighting building.

Rehabilitate T-hangar taxilane and terminal apron.

Acquire snow removal equipment.

Security enhancements.

Acquire land for runway 2/20 primary surface, phases I and II.

Improve snow removal equipment building.

Improve runway 2/20 runway safety areas, phase I.

Expand south hangar apron, phase I.

Acquire aircraft rescue and firefighting gear, fire retardant clothing/self-contained breathing apparatus.

Brief Description of Project Approved for Collection: Extend runway 12/30, phases I and II.

Decision Date: December 23, 2003.

For Further Information Contact: Lori Ledebohm, Harrisburg Airports District Office, (717) 730-2835.

Public Agency: Tulsa Airports Improvement Trust, Tulsa, Oklahoma.

Application Number: 04-05-C-00-TUL.

Application Type: Impose and use a PFC.

PFC Level: $3.00.

Total PFC Revenue Approved in this Decision: $26,617,000.

Earliest Charge Effective Date: July 1, 2004.

Estimated Charge Expiration Date: April 1, 2011.

Class of Air Carriers not Required To Collect PFC's: Part 135 air taxi/commercial operators filing FAA Form 1800-31.

Determination: Approved. Based on information contained in the public agency's application, the FAA has determined that the approved class accounts for less than 1 percent of the total annual enplanements at Tulsa International Airport.

Brief Description of Projects Approved for Collection and Use:

Terminal building rehabilitation.

Acquire airport safety equipment.

Rehabilitate taxiways and taxilanes.

Rehabilitate runway 18L/36R lighting.

Brief Description of Project Partially Approved for Collection and Use: Extend runway 8/26, associated development, and land acquisition.

Determination: Partially approved. The FAA has reviewed the information provided in the application and supplemental information submitted by the public agency on November 6, 2003. Given the complexity of the land issues, the FAA has concluded that it does not have sufficient information to determine the land acquisition eligibility in accordance with § 158.15(b) and did not approve the land acquisition portion of the project.

Decision Date: December 29, 2003.

For Further Information Contact: G. Thomas Wade, Southwest Region Airports Division, (817) 222-5613.

Public Agency: Municipal Airport Authority, Fargo, North Dakota.

Application Number: 03-06-C-00-FAR.

Application Type: Impose and use a PFC.

PFC Level: $4.50.

Total PFC Revenue Approved in this Decision: $12,469,848.

Earliest Charge Effective Date: July 1, 2004.

Estimated Charge Expiration Date: May 1, 2017.

Class of Air Carriers not Required To Collect PFC's: Air taxi/commercial operators filing FAA Form 1800-31.

Determination: Approved. Based on information contained in the public agency's application, the FAA has determined that the approved class accounts for less than 1 percent of the total annual enplanements at Hector International Airport.

Brief Description of Projects Approved for Collection and Use:

PFC application.

Annual audits.

Administration of PFC.

Snow removal equipment front end loaders.

Continuous friction measuring equipment.

Runway sweeper.

Remove power line obstruction.

Security fence modifications.

Storm sewer modifications/rehabilitation.

Passenger terminal rehabilitation.

Rehabilitate rotating beacon lower platform.

Electrical vault modification.

Wildlife hazard assessment.

Land acquisition.

General aviation apron.

Taxiway storm sewer.

Air carrier apron rehabilitation.

Runway 8/26 extension.

Access control system upgrade.

Reconstruct taxiway B and G2, relocate runway 31 threshold and construct G3, remove and replace security fencing along taxiway A, and preliminary engineering for the reconstruction of runway 17/35.

Reconstruction of runway 17/35.

Decision Date: December 29, 2003.

For Further Information Contact: Thomas T. Schauer, Bismarck Airports District Office, (701) 323-7380.

Amendments to PFC Approvals

Amendment No., City, State | Amendment approved date | Original approved net PFC revenue | Amended approved net PFC revenue | Original estimated charge exp. date | Amended estimated charge exp. date
*01-08-C-01-CLE Cleveland, OH | 11/08/03 | $82,106,000 | $82,106,000 | 12/01/07 | 11/01/07
02-07-C-01-PBI West Palm Beach, FL | 11/25/03 | 6,000,000 | 17,000,000 | 01/01/06 | 02/01/07
00-07-C-02-MCO Orlando, FL | 11/26/03 | 187,429,617 | 189,271,854 | 08/01/08 | 09/01/08
02-09-C-02-MCO Orlando, FL | 11/26/03 | 222,974,900 | 225,137,998 | 09/01/17 | 11/01/17
01-03-C-02-LFT Lafayette, LA | 12/03/03 | 2,323,000 | 2,668,000 | 05/01/04 | 07/01/04
94-01-C-03-ATW Appleton, WI | 12/12/03 | 950,551 | 689,967 | 09/01/00 | 02/01/96
98-03-C-02-ATW Appleton, WI | 12/12/03 | 3,159,000 | 3,130,818 | 04/01/03 | 02/01/03
00-03-C-02-AOO Altoona, PA | 12/23/03 | 223,570 | 135,270 | 10/01/04 | 08/01/02
03-04-C-01-EAT Wenatchee, WA | 12/30/03 | 123,500 | 142,025 | 06/01/04 | 06/01/04

Note: The amendment denoted by an asterisk (*) includes a change to the PFC level charged from $3.00 per enplaned passenger to $4.50 per enplaned passenger. For Cleveland, OH, this change is effective on February 1, 2004.

Issued in Washington, DC. on February 27, 2004.
JoAnn Horne,
Manager, Financial Analysis and Passenger Facility Charge Branch.

[FR Doc. 04-5038 Filed 3-11-04; 8:45 am]

BILLING CODE 4910-13-M